LEGAL SERVICES CORPORATION

Sunshine Act Meeting

DATE AND TIME: The Legal Services Corporation's Board of Directors and its six committees will meet April 19-20, 2021. On Monday, April 19, the first meeting will commence at 11:00 a.m., Eastern Daylight Time (EDT), with the next meeting commencing promptly upon adjournment of the immediately preceding meeting. On Tuesday, April 20, the first meeting will commence at 1:00 p.m., EDT, with the next meeting commencing promptly upon adjournment of the immediately preceding meeting.

LOCATION: Public Notice of Virtual Remote Meeting.

Due to the COVID-19 public health crisis, Legal Services Corporation (LSC) will be conducting the April 19-20, 2021 meetings remotely via ZOOM.

PUBLIC OBSERVATION: Unless otherwise noted herein, the Board and all committee meetings will be open to public observation. Members of the public who wish to participate remotely in the public proceedings may do so by following the directions provided below.

Directions for Open Sessions

Monday, April 19, 2021

• To join the Zoom Meeting by computer: Please click the link below. https://lsc-gov.zoom.us/j/91312051289?pwd=NzhHdXhlRXlUYVhxUGlwMDFsUHZ4dz09

• Meeting ID: 913 1205 1289

• Passcode: 411493

• To join the Zoom meeting with one touch from your mobile phone, click below:

+13017158592,,91312051289# US (Washington DC)

+16468769923,,91312051289# US (New York)

• To join the Zoom meeting by phone, use this information:

Dial by Your Location

• Find your local number: https://lsc-gov.zoom.us/u/ads9RL11Fi

Tuesday, April 20, 2021

• To join the Zoom Meeting by computer: Please click the link below. https://lsc-gov.zoom.us/j/92610645146?pwd=T0F5MEFRaXVxc0JwYlhiYkVQS25LUT09

•Meeting ID: 926 1064 5146

•Passcode: 178933

• To join the Zoom meeting with one touch from your mobile phone, click below:

+13017158592,,92610645146# US (Washington DC)

+13126266799,,92610645146# US (Chicago)

• To join the Zoom meeting by phone, use this information:

Dial by Your Location

• Find your local number: https://lsc-gov.zoom.us/u/anHXw7VFa

• When connected to the call, please immediately “MUTE” your telephone. Members of the public are asked to keep their telephones muted to eliminate background noises. To avoid disrupting the meeting, please refrain from placing the call on hold if doing so will trigger recorded music or other sound. From time to time, the Chair may solicit comments from the public.

• To participate in the meeting during public comment you will be notified when your microphone is no longer “MUTED” and you may give your questions, and or comments.

Meeting Schedule
| Time *
Monday, April 19, 2021
1. Governance and Performance Review Committee | 11:00 a.m.
2. Institutional Advancement Committee.
3. Communications Subcommittee of the Institutional Advancement Committee.
4. Delivery of Legal Services Committee.
5. Operations & Regulations Committee.
6. Finance Committee.
Tuesday, April 20, 2021
1. Combined Audit & Finance Committees | 1:00 p.m.
2. Audit Committee.
3. Board of Directors.

STATUS OF MEETING: Open, except as noted below.

* Please note all meetings are Eastern Daylight Time (EDT).

Board of Directors—Open, except that, upon a vote of the Board of Directors, a portion of the meeting may be closed to the public to hear briefings by management and LSC's Inspector General, and to consider and act on the General Counsel's report on potential and pending litigation involving LSC.**

** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

Governance and Performance Review Committee—Open, except that, upon a vote of the Board of Directors, the meeting may be closed to the public to hear a report on evaluations of LSC's Officers.**

Institutional Advancement Committee—Open, except that, upon a vote of the Board of Directors, the meeting may be closed to the public to consider and act on recommendation of new Leaders Council invitees and to receive a briefing on the Development activities.**

Audit Committee—Open, except that the meeting may be closed to the public to hear a briefing on the Office of Compliance and Enforcement's active enforcement matters.**

Combined Audit and Finance Committees—Open, except that the meeting may be closed to hear an auditor briefing without presence of LSC management and to discuss augmentation of LSC's internal audit resources.**

A verbatim written transcript will be made of the closed session of the Board, Governance and Performance Review Committee, Institutional Advancement Committee, Audit Committee, and Joint Audit and Finance Committees meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

April 19, 2021

Governance and Performance Review Committee

Open Session

1. Approval of agenda

2. Approval of minutes of the Committee's Open Session meeting of January 28, 2021

3. Discuss Compensation for Officers

• Ron Flagg, President

4. Consider and act on Resolution 2021-XXX to appoint Vice President for Legal Affairs and General Counsel

5. Consider and act on other business

6. Public comment

7. Consider and act on motion to adjourn the open meeting and proceed to a closed session

Closed Session

1. Report on evaluations of Vice President for Grants Management, Vice President for Government Relations & Public Affairs, Chief Financial Officer, and Chief of Staff & Corporate Secretary

• Ron Flagg, President

2. Consider and act on adjournment of meeting

April 19, 2021

Institutional Advancement Committee

Open Session

1. Approval of agenda

2. Approval of minutes of the Institutional Advancement Committee's Open Session meeting of January 28, 2021

3. Update on Leaders Council and Emerging Leaders Council

• John G. Levi, Chairman of the Board

4. Development report

• Nadia Elguindy, Director of Institutional Advancement

5. Update on LSC's 50th Anniversary

• Leo Latz, Latz & Company

• Nadia Elguindy, Director of Institutional Advancement

6. Presentation on Legal Navigator

• Jada Breegle, Chief Information Officer

7. Public comment

8. Consider and act on other business

9. Consider and act on motion to adjourn the open session meeting and proceed to a closed session

Closed Session

1. Approval of minutes of the Institutional Advancement Committee's Closed Session meeting of January 28, 2021

2. Development activities report

• Nadia Elguindy, Director of Institutional Advancement

3. Consider and act on motion to approve Leaders Council and Emerging Leaders Council invitees

4. Consider and act on other business

5. Consider and act on motion to adjourn the meeting

April 19, 2021

Communications Subcommittee of the Institutional Advancement Committee

Open Session

1. Approval of agenda

2. Approval of minutes of the Subcommittee's Open Session meeting of January 28, 2021

3. Communications and social media update

• Carl Rauscher, Director of Communications and Media Relations

• Carol Bergman, VP for Government Relations & Public Affairs

• Jada Breegle, Chief Information Officer

• Shanikka Richardson, Web Content Manager

4. Public comment

5. Consider and act on other business

6. Consider and act on motion to adjourn the meeting

April 19, 2021

Delivery of Legal Services Committee

Open Session

1. Approval of agenda

2. Approval of Minutes of the Committee's Open Session meeting of January 28, 2021

3. Review of Delivery of Legal Services Committee Charter

4. Update on LSC Performance Criteria Revisions

• Lynn Jennings, Vice President for Grants Management

5. Presentation on grantee oversight during the pandemic

• Joyce McGee, Director, Office of Program Performance

• Lora Rath, Director, Office of Compliance and Enforcement

6. Public comment

7. Consider and act on other business

8. Consider and act on a motion to adjourn the meeting

April 19, 2021

Operations & Regulations Committee

Open Session

1. Approval of agenda

2. Approval of minutes of the Committee's Open Session meeting on January 28, 2021

3. Consider and act on Final Rule for Part 1635—Timekeeping Requirement

• Stefanie Davis, Senior Assistant General Counsel, Office of Legal Affairs

• Marissa Jeffery, Graduate Law Fellow, Office of Legal Affairs

4. Consider and act on the 2021-2022 Rulemaking Agenda

• Ron Flagg, President

• Stefanie Davis, Senior Assistant General Counsel, Office of Legal Affairs

5. Briefing on Performance Management and Talent Management

• Traci Higgins, Director of Human Resources

6. Public comment

7. Consider and act on other business

8. Consider and act on adjournment of meeting

April 19, 2021

Finance Committee

Open Session

1. Approval of agenda

2. Approval of the minutes of the Committee's Open Session meeting of January 29, 2021

3. Presentation of LSC's Financial Report for the first five months of FY 2021 & Budget Revisions

• Debbie Moore, Chief Financial Officer & Treasurer

4. Consider and act on Resolution 2021-XXXX, amending LSC's Consolidated Operating Budget for FY 2021

5. Discussion of LSC's FY 2022 appropriations request

• Carol Bergman, Vice President for Government Relations & Public Affairs

6. Discussion regarding process, timetable, and methodology for FY 2023 budget request

• Carol Bergman, Vice President for Government Relations & Public Affairs

• Ron Flagg, President

7. Public comment

8. Consider and act on other business

9. Consider and act on motion to adjourn the meeting

April 20, 2021

Combined Audit & Finance Commitee

Open Session

1. Approval of agenda

2. Approval of minutes of the Combined Audit & Finance Committee's Open Session meeting of January 29, 2021

3. Presentation of the Fiscal Year (FY) 2020 Annual Financial Audit

• Roxanne Caruso, Assistant Inspector General for Audits

• Marie Caputo, Principal, CliftonLarsonAllen

4. Consider and act on motion to suspend the Open Session Meeting and proceed to a Closed Session

Closed Session

5. Approval of minutes of the Combined Audit & Finance Committee's Closed Session meeting of January 29, 2021

6. Discussion on the Augmentation of LSC's Internal Control Resources

• Ron Flagg, President

• Debbie Moore, Chief Financial Officer and Treasurer

7. Opportunity to ask auditors questions without management present

• Roxanne Caruso, Assistant Inspector General for Audits

• Marie Caputo, Principal, CliftonLarsonAllen

8. Communication by Corporate Auditor with those charged with governance under Statement on Auditing Standard 114

• Roxanne Caruso, Assistant Inspector General for Audits

• Marie Caputo, Principal, CliftonLarsonAllen

9. Consider and act on motion to adjourn the Closed Session Meeting and resume the Open Session Meeting

Open Session

10. Consider and act on Resolution 2021-XXX, Acceptance of the Draft Financial Statements for Fiscal Year 2020

11. Public comment

12. Consider and act on other business

13. Consider and act on motion to adjourn the meeting

April 20, 2021

Audit Committee

Open Session

1. Approval of agenda

2. Approval of minutes of the Committee's Open Session meeting of January 29, 2021

3. Briefing by the Office of Inspector General

• Jeffrey Schanz, Inspector General

• Roxanne Caruso, Assistant Inspector General for Audit

4. Management update regarding risk management

• Ron Flagg, President

5. Briefing about follow-up by the Office of Compliance and Enforcement on referrals by the Office of Inspector General regarding audit reports and annual financial statement audits of grantees

• Lora Rath, Director, Office of Compliance and Enforcement

• Roxanne Caruso, Assistant Inspector General for Audit

6. Public comment

7. Consider and act on other business

8. Consider and act on motion to adjourn the open session meeting and proceed to a closed session

Closed Session

1. Approval of minutes of the Committee's Closed Session meeting of January 29, 2021

2. Briefing by Office Compliance and Enforcement on active enforcement matter(s) and follow-up on open investigation referrals from the Office of Inspector General

• Lora Rath, Director, Office of Compliance and Enforcement

3. Consider and act on motion to adjourn the meeting

April 20, 2021

Board of Directors

Open Session—April 20, 2021

1. Pledge of Allegiance

2. Approval of agenda

3. Approval of minutes of the Board's Open Session telephonic meeting of January 29, 2021

4. Chairman's Report

5. Members' Reports

6. President's Report

7. Inspector General's Report

8. Consider and act on the report of the Operations and Regulations Committee

9. Consider and act on the report of the Governance and Performance Review Committee

10. Consider and act on the report of the Combined Audit and Finance Committees

11. Consider and act on the report of the Audit Committee

12. Consider and act on the report of the Finance Committee

13. Consider and act on the report of the Institutional Advancement Committee

14. Consider and act on the report of the Delivery of Legal Services Committee

15. Update on Veterans Task Force and Opioid Task Force Implementation

• Stefanie Davis, Senior Assistant General Counsel

16. Update on Eviction Study and Housing Task Force

• Lynn Jennings, Vice President of Grants Management

• Helen Guyton, Senior Assistant General Counsel

17. Consider and act on Resolution 2021-XXX establishing a Rural Justice Task Force

• Ron Flagg, President

18. Consider and act on the LSC Strategic Plan 2021-2024

19. Management briefing on Diversity, Equity, and Inclusion Plan

20. Public comment

21. Consider and act on other business

22. Consider and act on whether to authorize a closed session of the Board to address items listed below

Closed Session

1. Approval of minutes of the Board's Closed Session meeting of January 29, 2021

2. Management briefing

3. Inspector General briefing

4. Consider and act on General Counsel's report on potential and pending litigation involving LSC

5. Consider and act on General Counsel's report on potential and pending litigation involving LSC

6. Consider and act on list of prospective Leaders Council and Emerging Council invitees

7. Consider and act on motion to adjourn the meeting

CONTACT PERSON FOR INFORMATION: Rebecca Fertig Cohen, Chief of Staff & Corporate Secretary, at (202) 205-1576 and Yladrea Drummond, Special Assistant to the President, at (202) 295-1633. Questions may be sent by electronic mail to FR_NOTICE_QUESTIONS@lsc.gov.

NON-CONFIDENTIAL MEETING MATERIALS: Non-confidential meeting materials will be made available in electronic format at least 24 hours in advance of the meeting on the LSC website, at http://www.lsc.gov/board-directors/meetings/board-meeting-notices/non-confidential-materials-be-considered-open-session.

Dated: April 7, 2021.
Stefanie Davis,
Senior Assistant General Counsel.

[FR Doc. 2021-07466 Filed 4-7-21; 4:15 pm]

BILLING CODE 7050-01-P